DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy.

The following patent is available for licensing: Patent application 12/793,503: AUTO ADJUSTING RANGING DEVICE (a ranging system for use with a projectile launching device).

ADDRESSES: Written objections are to be filed with Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR part 404.

Dated: March 2, 2012.
L.M. Senay,
Lieutenant, Office of the Judge Advocate, U.S. Navy, Alternate Federal Register Liaison Officer.

[FR Doc. 2012-5868 Filed 3-9-12; 8:45 am]

BILLING CODE 3810-FF-P